DEPARTMENT OF COMMERCE

National Oceanic and Atmospheric Administration

National Estuarine Research Reserve System

AGENCY: Estuarine Reserves Division, Office of Ocean and Coastal Resource Management, National Ocean Service, National Oceanic and Atmospheric Administration, U.S. Department of Commerce.

ACTION: Notice of Public Comment Period for the Revised Management Plan for the Elkhorn Slough National Estuarine Research Reserve.

SUMMARY: Notice is hereby given that the Estuarine Reserves Division, Office of Ocean and Coastal Resource Management, National Ocean Service, National Oceanic and Atmospheric Administration (NOAA), U.S. Department of Commerce is announcing a thirty day public comment period on the Elkhorn Slough National Estuarine Research Reserve Management Plan Revision which will begin on the day this announcement is published. Comments should be sent within the comment period in hard copy or e-mail to Patricia Delgado at Patricia.Delgado@noaa.gov or NOAA's Estuarine Reserves Division, 1305 East-West Highway, N/ORM5, 10th floor, Silver Spring, MD 20910.

The Elkhorn Slough National Estuarine Research Reserve was designated in 1979 pursuant to Section 315 of the Coastal Zone Management Act of 1972, as amended, 16 U.S.C. 1461. The Reserve has been operating under a management plan approved in 1985. Pursuant to 15 CFR 921.33(c), a state must revise its management plan every five years. The submission of this plan fulfills this requirement and sets a course for successful implementation of the goals and objectives of the reserve.

This plan is a significant revision of the original management plan developed for the Reserve. For the revision, the Reserve used a collaborative approach, which focused on integrating the Reserve's programs in order to better achieve conservation success. The plan describes the Reserve's long-term conservation goals and details the process involved in identifying those goals. It also maps out the objectives and strategies that the Reserve will use over the next five years in order to move toward accomplishing its goals. The plan also provides an overview of the Reserve's research and monitoring, education, stewardship, coastal training, volunteer, and administration programs and describes the Reserve's plan for public access, acquisition, and facilities.

FOR FURTHER INFORMATION CONTACT: Patricia Delgado at (301) 563-1147 or Kate Barba at (301) 563-1182 of NOAA's National Ocean Service, Estuarine Reserves Division, 1305 East-West Highway, N/ORM5, 10th floor, Silver Spring, MD 20910. For copies of the Delaware Management Plan revision, visit http://www.elkhornslough.org/.

Dated: August 24, 2006.
David M. Kennedy,
Director, Office of Ocean and Coastal Resource Management, National Oceanic and Atmospheric Administration.

[FR Doc. 06-7263 Filed 8-29-06; 8:45 am]

BILLING CODE 3510-08-M